APPALACHIAN STATES LOW-LEVEL RADIOACTIVE WASTE COMMISSION

Annual Meeting

Time and Date: 10 a.m.-12 p.m. November 3, 2004.

Place: Harrisburg Hilton and Towers, One North Second Street, Harrisburg, PA 17101.

Status: Most of the meeting will be open to the public. If there is a need for an executive session (closed to the public), it will be held at about 9:30 a.m.

Matters To Be Considered:

Portions Open to the Public: The primary purpose of this meeting is to (1) Review the independent auditors' report of Commission's financial statements for fiscal year 2003-2004; (2) Review the Low-Level Radioactive Waste (LLRW) generation information for 2003; (3) Consider a proposed budget for fiscal year 2005-2006; (4) Review recent national developments regarding LLRW management and disposal; and (5) Elect the Commission's Officers.

Portions Closed to the Public: Executive Session, if deemed necessary, will be held at about 9:30 a.m.

Contact for Further Information: Richard R. Janati, Pennsylvania Staff member on the Commission, at (717) 787-2163.

Richard R. Janati,
PA Staff Member on the Commission.

[FR Doc. 04-23884 Filed 10-25-04; 8:45 am]

BILLING CODE 0000-00-P